DEPARTMENT OF ENERGY

Federal Energy Regulatory Commission

[Docket No. EL10-6-000]

FirstEnergy Service Company, Complainant v. PJM Interconnection, L.L.C., Respondent; Notice of Complaint

October 23, 2009.

Take notice that on October 19, 2009, pursuant to Rule 206 of the Federal Energy Regulatory Commission's (Commission) Rules of Practice and Procedure, 18 CFR 385.206, and section 206 of the Federal Power Act, 16 U.S.C. 824(e), FirstEnergy Service Company ¹ (FirstEnergy) filed a formal complaint against PJM Interconnection, L.L.C. (PJM) alleging that the assignment of cost responsibility to the American Transmission Systems, Incorporated (ATSI) Zone pursuant to Schedule 12 of the PJM's Open Access Transmission Tariff for the Regional Transmission Expansion Plan (RTEP) prior to ATSI's integration into the Respondent is unjust, unreasonable, and unduly discriminatory and that Schedule 12 (b)(i)(A) should be amended to provide that applicable zonal loads used to derive rates for ATSI's Zone shall exclude the peak load for the ATSI Zone for Regional Facilities and Necessary Lower Voltage Facilities identified under Schedule 12 that were planned and approved in any RTEP prior to the date when ATSI Zone is integrated into PJM.

¹ For purposes of this filing, “FirstEnergy” is FirstEnergy Service Company acting on behalf of six of its affiliates: American Transmission Systems, Incorported (ATSI), The Cleveland Electric Illuminating Company, Ohio Edison Company, The Toledo Edison Company, Pennsylvania Power Company, and FirstEnergy Solution Corp. These entities are also collectively referred to as the “ATSI Utilities.”

FirstEnergy certifies that copies of the complaint were served on the contacts for PJM as listed on the Commission's list of Corporate Officials and on entities and regulatory agencies FirstEnergy reasonably expects to be affected by this Complaint.

Any person desiring to intervene or to protest this filing must file in accordance with Rules 211 and 214 of the Commission's Rules of Practice and Procedure (18 CFR 385.211, 385.214). Protests will be considered by the Commission in determining the appropriate action to be taken, but will not serve to make protestants parties to the proceeding. Any person wishing to become a party must file a notice of intervention or motion to intervene, as appropriate. The Respondent's answer and all interventions, or protests must be filed on or before the comment date. The Respondent's answer, motions to intervene, and protests must be served on the Complainants.

The Commission encourages electronic submission of protests and interventions in lieu of paper using the “eFiling” link at http://www.ferc.gov. Persons unable to file electronically should submit an original and 14 copies of the protest or intervention to the Federal Energy Regulatory Commission, 888 First Street, NE., Washington, DC 20426.

This filing is accessible online at http://www.ferc.gov, using the “eLibrary” link and is available for review in the Commission's Public Reference Room in Washington, DC. There is an “eSubscription” link on the Web site that enables subscribers to receive e-mail notification when a document is added to a subscribed docket(s). For assistance with any FERC Online service, please e-mail FERCOnlineSupport@ferc.gov, or call (866) 208-3676 (toll free). For TTY, call (202) 502-8659.

Comment Date: 5 p.m. Eastern Time on November 4, 2009.

Kimberly D. Bose,
Secretary.

[FR Doc. E9-26236 Filed 10-30-09; 8:45 am]

BILLING CODE 6717-01-P